DEPARTMENT OF THE INTERIOR

National Park Service

Environmental Impact Statements, Dayton Aviation Heritage National Historical Park, Ohio

AGENCY: National Park Service, Department of the Interior.

ACTION: Notice of intent to prepare an environmental impact statement for the general management plan amendment for Dayton Aviation Heritage National Historical Park, Ohio.

SUMMARY: Under the provisions of the National Environmental Policy Act of 1969 (42 U.S.C. 4321 et seq.), the National Park Service (NPS) is preparing an environmental impact statement (EIS) for the general management plan amendment for Dayton Aviation Heritage National Historical Park (DAAV). This effort will result in a comprehensive general management plan that encompasses preservation of natural and cultural resources, visitor use and interpretation, roads, and facilities. In cooperation with the United States Air Force at Wright-Patterson Air Force Base (WPAFB), attention will also be given to resources outside the boundaries of DAAV that affect the integrity of DAAV. Major issues to be addressed in the EIS include boundary adjustments in three geographic areas; motorized vehicle access between the Wright Memorial and Huffman Prairie Flying Field; management of resources in The Wright Cycle Company complex; the most appropriate designation for the Paul Laurence Dunbar House site; and DAAV/partnership staffing, responsibility, and functions.

DATES: The NPS will accept comments through February 6, 2003.

ADDRESSES: Information will be available for public review and comment in the office of the Superintendent, Dayton Aviation Heritage National Historical Park, 22 South Williams Street, Dayton, Ohio 45409.

FOR FURTHER INFORMATION CONTACT: Larry Blake, Superintendent, Dayton Aviation Heritage National Historical Park, PO Box 9280, Wright Brothers Station, Dayton, OH 45409, (937) 225-7705.

SUPPLEMENTARY INFORMATION: The Wright Cycle Company Complex includes The Wright Cycle Company building, the Wright-Dunbar Interpretive Center, the Aviation Trail Visitor Center, and two historic residential structures. Several boundary adjustments have been suggested to facilitate and improve the management and functionality of DAAV.

There are 84.41 acres within the actual limits of the Huffman Prairie Flying Field. The flying field and surrounding lands are owned by the U.S. Air Force and are part of WPAFB. It may be appropriate to expand the boundaries of DAAV at this site to facilitate management and improve access and interpretation. Expansion or modification of the existing boundaries would require amendment of DAAV's authorizing legislation by Congress. The 27-acre Wright Memorial is on WPAFB and is not within the current boundaries established for DAAV. However, DAAV's authorizing legislation states, “the Secretary may provide interpretation of Huffman Prairie Flying Field on Wright Brothers Hill, Wright-Patterson Air Force Base, Ohio.” Through an agreement with the Air Force, the NPS will staff and provide interpretive exhibits and programming at the Huffman Prairie Flying Field Interpretive Center, an Air Force facility constructed on Wright Brothers Hill. Possible boundary change options in this area could include, but may not be limited to: expanding DAAV to include the entire 27-acre Wright Memorial site; expanding DAAV to include only the portion of the site that includes the visitor center; and expanding DAAV to include additional lands outside of the Wright Memorial in the vicinity of the southwest end of the proposed Gateway Project. Expansion or modification of the existing boundaries would require amendment of DAAV's authorizing legislation by Congress. Huffman Prairie Flying Field currently is within a secure area of WPAFB. The general management plan amendment will consider alternatives for providing access to Huffman Prairie Flying Field and for linking the interpretive center at the Wright Memorial with the flying field site. Alternatives could range from no additional action to constructing any one of six proposed configurations for the Gateway Project, which could include a bridge across State Route 444 and Kauffman Avenue.

The general management plan amendment will investigate the most appropriate designation to convey the Paul Laurence Dunbar story.

Although Dunbar was a friend of the Wright brothers and a classmate of Orville Wright, he had little connection with the development of aviation in Dayton. Moreover, DAAV's ability to present Dunbar's importance as the first African-American to gain widespread recognition for his literary accomplishment may be obscured by the aviation theme of the remainder of DAAV. The NPS is committed to ensuring the protection, preservation, and interpretation of Paul Laurence Dunbar's home as a unit of the National Park System and is interested in determining the designation that will most effectively assist the NPS, in partnership with the Ohio Historical Society in achieving that objective. Options could include continuing the site's current status as part of the DAAV, or designating a separate Paul Laurence Dunbar National Historic Site. In the latter case, the general management plan amendment will determine if the site should be administered in conjunction with or separately from DAAV.

Adjacent to the Wright Cycle Company, at 26 and 30 South Williams Street, are two historic houses owned by the city of Dayton. The City Commission has voted to donate these properties to DAAV and DAAV is now working with the city to complete the legal transfer. While the people who lived at 26 South Williams were neighbors and documented acquaintances of the Wright brothers, the house and family do not have critical significance related to the Wright brothers' story. The general management plan amendment will address whether the structure should be rehabilitated or restored, and establish the most appropriate use.

The house at 30 South Williams Street has been rehabilitated by the city of Dayton and, as an interim use, is serving as the DAAV headquarters and offices for the Dayton Aviation Heritage Commission. The general management plan amendment will address the structure's most appropriate use after operational activities move to the Hoover Block.

The NPS has multiple partners in the ownership and operation of DAAV. The general management plan amendment will evaluate alternatives for responsibilities and functions, potentially including staffing issues, with the U.S. Air Force, Ohio Historical Society, Carillon Historical Park, and Aviation Trail, Inc.; ensuring security at WPAFB; and providing space for storage and maintenance at the Wright Cycle Company/Hoover Block Complex. Additional issues to be addressed in the EIS may be identified during the scoping process. Federal, State, and local agencies, individuals, and organizations are invited to participate in the scoping process. That process includes:

Identification of potential issues.

Identification of potential impact topics, and topics to be analyzed in depth.

Determination of potential cooperating agencies and assignment of responsibilities.

Public scoping will begin in September. Public notice of scoping processes such as meetings and open houses will be issued. A newsletter will be prepared which details the issues identified to date. Copies of the newsletter may be obtained from Superintendent, Dayton Aviation Heritage National Historical Park, 22 South Williams Street, Dayton, Ohio 45509.

If you wish to comment on the scoping newsletter or on any other issues associated with the plan, you may submit your comments by any one of several methods. You may mail comments to Superintendent, Dayton Aviation Heritage National Historical Park, PO Box 9280, Wright Brothers Station, Dayton, OH 45409. You may also comment via the Internet to DAAV_GMPA@nps.gov. Please also include your name and return address in your Internet message. Request a return receipt when you prepare your message and a confirmation should be forwarded back when your message is received. If you do not receive a confirmation from the system that we have received your Internet message, contact us directly at (937) 225-7705 and ask for Ann Honious. Finally, you may hand-deliver comments to 22 South Williams Street, Dayton, Ohio. Our practice is to make comments, including names and home addresses of respondents, available for public review during regular business hours.

Individual respondents may request we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: October 22, 2002.
William W. Schenk,
Regional Director, Midwest Region.

[FR Doc. 02-32170 Filed 12-20-02; 8:45 am]

BILLING CODE 4310-70-P